DEPARTMENT OF HEALTH AND HUMAN SERVICES

Administration for Children and Families

[Office of Management and Budget #0970-0476]

Proposed Information Collection Activity; Generic Clearance for Disaster Information Collection Forms

AGENCY: Office of Human Services Emergency Preparedness and Response, Administration for Children and Families, U.S. Department of Health and Human Services, HHS.

ACTION: Request for public comments.

SUMMARY: The Administration for Children and Families (ACF) is requesting a 3-year extension of the Generic Clearance for Disaster Information Collection Forms Office of Management and Budget (OMB) #0970-0476 and the five forms currently approved for ACF programs. There are no changes requested to the umbrella generic and no substantial changes to the currently approved forms.

DATES: Comments due July 14, 2025. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The information collected through the forms approved under the umbrella Generic Clearance for Disaster Information Collection Forms is used to provide real-time updates during the response and recovery phases of a disaster. Prior to the renewal process, the Office of Human Services Emergency Preparedness and Response (OHSEPR) revised the generic disaster information collection form approved under this generic: Services for Planning Emergency Action and Response Form (this submission will update the original title: Administration for Children and Families Disaster Information Collection Form). The Services for Planning Emergency Action and Response Form can be used as-is or tailored for a specific use by an ACF office or program. Each tailored form is submitted as an individual request under the umbrella generic.

The Services for Planning Emergency Action and Response Form has been tailored for each of the five following ACF offices or programs: The Children's Bureau, the Office of Family Violence Prevention and Services, the Office of Child Care, the Office of Head Start, and the Runaway and Homeless Youth (RHY) Program. It is possible that more program offices may request approval of a tailored version in the future.

The requested information is submitted by ACF award recipients, which includes states, tribes, and nongovernmental organizations.

Currently Approved Forms

Family Violence Prevention and Services Program. This form collects information on post-disaster impacts and disaster recovery, including requests for assistance from state administrators, tribes/tribal organizations, state coalitions, or resource centers comprising the Domestic Violence Resource Network; shelters that have been evacuated due to damage; shelter residents being served in alternate locations; reports of an increase in requests for assistance; capacity shortfalls; and reported increase in domestic violence post-disaster.

Office of Child Care. The baseline information includes the number of licensed, regulated, and license-exempt child care providers in the state; the number of children who are served by the ACF Office of Child Care's Child Care and Development Fund (CCDF); emergency contact information for the CCDF administrator, the licensing contacts, and resource and referral agencies; interruptions in systems that facilitate contacting the child care providers; contact person for state record-keeping systems; number of children served; and damage assessment plans of the licensing agency. The disaster impact information includes the number and type of child care providers closed, the number of closed providers that serve children who benefit from ACF/CCDF, the number of children with CCDF subsidies affected by the closures, total child care capacity lost, whether the providers whose facilities have closed will be able to reopen, whether damaged facilities have been able to remain open, degree of disruption in services; state decision to implement temporary operating standards for child care providers; and requests for behavioral and mental health services for children, families, and staff. Post-disaster recovery questions include ability of child care providers to reopen, number of service slots lost due to closures, total number of child care providers that are open in the disaster impact zone; and staff shortages.

Family and Youth Services Bureau, Runaway and Homeless Youth Program. This form collects information on post-disaster impacts and disaster recovery, including requests from award recipients for technical assistance; a safety and accountability report for children and youth in RHY programs; reports of damage to Runaway and Homeless Youth facilities; and a report of any children or youth that have been relocated due to damages to facilities.

Children's Bureau. This form requests information on any disaster-caused disruptions of the child abuse/neglect reporting and investigation system; reports of unaccompanied children needing protection, identification, and reunification with legal caregivers; actions taken by the Child Welfare Agency; impacts to Chafee Foster Care Independence Program providers; accountability and safety report for youth receiving services; reports on any increase in the number of child abuse or neglect reports in the affected areas; impacts to Safe and Stable Families or Community Based Child Abuse Prevention providers; whether families receiving in-home services are being supported; displaced or temporarily relocated foster families; coordination of needed services and supervision by the Child Welfare Agency; new or increased interstate challenges; and compromised program records.

Office of Head Start. Number of Head Start (HS) centers and service slots located in the disaster impact zone; number of centers and available service slots open and number closed post-disaster; number of HS centers with undetermined status; general access to services for children and families in the impacted areas; disruptions in transportation; ability of families to receive care elsewhere; number of HS centers closed post-disaster and number of service slots lost; and other program service interruptions.

Respondents: ACF Award Recipients and State Administrators.

Annual Burden Estimates

Ongoing Approved Information Collections
Instrument | Total number of respondents | Total number of responses per respondent | Average burden hours per response | Annual burden hours
Children's Bureau Disaster Information Collection Form | 10 | 1 | 1 | 10
Family Violence Prevention and Services Program Disaster Information Collection Form | 10 | 1 | 1 | 10
Office of Child Care Disaster Information Collection Form | 7 | 1 | 2 | 14
Office of Head Start Disaster Information Collection Form | 10 | 1 | 2 | 20
Runaway and Homeless Youth Program Disaster Information Collection Form | 10 | 1 | 1 | 10
Services for Planning Emergency Action and Response Form (Generic—Current) | 400 | 1 | 0.1 | 40
Estimated Total Annual Burden Hours |  |  |  | 104

Burden for Potential New Information Collections
Instrument | Total number of respondents | Total number of responses per respondent | Average burden hours per response | Annual burden hours
Services for Planning Emergency Action and Response Form (Tailored or Generic) | 60 | 1 | 1 | 60

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 68 Disaster Relief; 42 U.S.C. 5121; Pub. L. 113-5.

Mary C. Jones,
ACF/OPRE Certifying Officer.

[FR Doc. 2025-08656 Filed 5-14-25; 8:45 am]

BILLING CODE 4182-01-P